DEPARTMENT OF AGRICULTURE

Animal and Plant Health Inspection Service

[Docket No. APHIS-2020-0006]

Notice of Request for Revision to and Extension of Approval of an Information Collection; Importation of Live Swine, Pork, and Pork Products From Certain Regions

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of live swine, pork, and pork products from certain regions free of classical swine fever in Brazil, Chile, and Mexico.

DATES: We will consider all comments that we receive on or before May 19, 2020.

ADDRESSES: You may submit comments by either of the following methods:

• Federal eRulemaking Portal: Go to http://www.regulations.gov/#!docketDetail;D=APHIS-2020-0006.

• Postal Mail/Commercial Delivery: Send your comment to Docket No. APHIS-2020-0006, Regulatory Analysis and Development, PPD, APHIS, Station 3A-03.8, 4700 River Road Unit 118, Riverdale, MD 20737-1238.

Supporting documents and any comments we receive on this docket may be viewed at http://www.regulations.gov/#!docketDetail;D=APHIS-2020-0006 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the importation of live swine, pork, and pork products from certain regions, contact Dr. Magde Elshafie, Senior Veterinarian Medical Officer, VS, APHIS, 4700 River Road Unit 40, Riverdale, MD 20737; (301) 851-3300. For more information on the information collection process, contact Mr. Joseph Moxey, APHIS' Information Collection Coordinator, at (301) 851-2483.

SUPPLEMENTARY INFORMATION:

Title: Importation of Live Swine, Pork, and Pork Products From Certain Regions.

OMB Control Number: 0579-0230.

Type of Request: Revision to and extension of approval of an information collection.

Abstract: Under the Animal Health Protection Act (7 U.S.C. 8301 et seq.), the Animal and Plant Health Inspection Service (APHIS) of the United States Department of Agriculture is authorized, among other things, to prohibit or restrict the importation and interstate movement of animals and animal products to prevent the introduction into and dissemination within the United States of livestock diseases and pests. To carry out this mission, APHIS regulates the importation of animals and animal products into the United States. The regulations for the importation of animals and animal products are contained in 9 CFR parts 92 through 98.

Part 94 allows, under certain conditions, the importation of live swine, pork, and pork products from certain regions that are free of classical swine fever (CSF) to prevent the introduction of CSF into the United States. Mexico, Chile, and the State of Santa Catarina in Brazil are on the list of regions referenced in §§ 94.9 (a)(1) and 94.10 (a)(1) that are considered free of CSF. However, § 94.32 places restrictions on the importation of live swine, pork, and pork products from these regions. These restrictions are placed because these regions either supplement their pork supplies by importing fresh (chilled or frozen) pork from CSF-affected regions, supplement their pork supplies with pork from CSF-affected regions that is not processed in accordance with the requirements in part 94, share a common land border with CSF-affected regions, or import live swine from such regions under conditions less restrictive than would be acceptable for importation into the United States.

To ensure that the importation of live swine, pork, and pork products from Brazil, Chile, and Mexico do not introduce CSF into the United States, the regulations include information collection activities such as certification for importation of pork or pork products; application of seal; location and reason for breaking seal and application of new seal; termination of agreement; request for approval of defrost facility; request hearing for denial or approval of defrost facility; application for import of small amounts of pork or pork products; cooperative service agreement; notification of Customs and Border Protection inspectors for pork from specific regions; recordkeeping requirements for certificates; certificates for meat processed in tubes; certification for importation of hams; agreement for processing procedures; identification procedures; recordkeeping for processing origin of hams; and program statements.

The information collection activities of certificates, compliance agreements, and cooperative service agreements are currently approved by the Office of Management and Budget (OMB) under OMB Control Number 0579-0230 (Importation of Live Swine, Pork, and Pork Products From Certain Regions Free of Classical Swine Fever in Brazil, Chile, and Mexico). The remaining requirements were previously approved under OMB Control Number 0579-0395 (Prohibited and Restricted Importation of Fresh (Frozen or Chilled) Pork or Pork Products into the United States) and OMB Control Number 0579-0396 (Prohibited and Restricted Importation of Hams into the United States). As a result of including these additional information collection activities in this collection, APHIS has revised the title of this information collection from “Importation of Live Swine, Pork, and Pork Products From Certain Regions Free of Classical Swine Fever in Brazil, Chile, and Mexico” to “Importation of Live Swine, Pork, and Pork Products From Certain Regions”. After OMB approves this combined information collection package (0579-0230), APHIS will retire OMB control numbers 0579-0395 and 0579-0396.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1 hour per response.

Respondents: Full-time, salaried veterinary officers employed by the governments of Brazil, Chile, and Mexico; industry representatives; and U.S. importers.

Estimated annual number of respondents: 92.

Estimated annual number of responses per respondent: 640.

Estimated annual number of responses: 58,959.

Estimated total annual burden on respondents: 58,996 hours. (Due to averaging, the total annual burden hours may not equal the product of the annual number of responses multiplied by the reporting burden per response.)

All responses to this notice will be summarized and included in the request for OMB approval. All comments will also become a matter of public record.

Done in Washington, DC, this 17th day of March 2020.
Michael Watson
Acting Administrator, Animal and Plant Health Inspection Service.

[FR Doc. 2020-05942 Filed 3-19-20; 8:45 am]

BILLING CODE 3410-34-P